DEPARTMENT OF COMMERCE

Foreign-Trade Zones Board

[Docket 65-2011]

Proposed Foreign-Trade Zone—Ada and Canyon Counties, ID, Under Alternative Site Framework, Application Filed

An application has been submitted to the Foreign-Trade Zones Board (the Board) by the Caldwell Economic Development Council, Inc. to establish a general-purpose foreign-trade zone at sites in Ada and Canyon Counties, Idaho, adjacent to the Boise U.S. Customs and Border Protection (CBP) port of entry, under the alternative site framework (ASF) adopted by the Board (74 FR 1170-1173, 1/12/09 (correction 74 FR 3987, 1/22/09); 75 FR 71069-71070, 11/22/10). The ASF is an option for grantees for the establishment or reorganization of general-purpose zones and can permit significantly greater flexibility in the designation of new “usage-driven” FTZ sites for operators/users located within a grantee's “service area” in the context of the Board's standard 2,000-acre activation limit for a general-purpose zone project. The application was submitted pursuant to the Foreign-Trade Zones Act, as amended (19 U.S.C. 81a-81u), and the regulations of the Board (15 CFR part 400). It was formally filed on October 19, 2011. The applicant is authorized to make the proposal under Idaho Statute 67-4703A.

The proposed zone would be the second general-purpose zone approved to serve the Boise CBP port of entry. FTZ 192 in Meridian, Idaho was established on February 17, 1993 (Board Order 629, 58 FR 11834, 03/01/1993) but has since lapsed.

The applicant's proposed service area under the ASF would be Ada and Canyon Counties, Idaho. If approved, the applicant would be able to serve sites throughout the service area based on companies' needs for FTZ designation. The proposed service area is both within and adjacent to the Boise CBP port of entry.

The proposed zone would initially include two “magnet” sites in Canyon County: Proposed Site 1 (524.04 acres)—Caldwell Airport/Industrial Park, 4814 East Linden Street, Caldwell; and, Proposed Site 2 (241.04 acres)—within the 350-acre Sky Ranch Business Center, 4190 Highway 20/26, Caldwell. The parcels within the sites are both publicly and privately owned, as described in the application. The ASF allows for the possible exemption of one magnet site from the “sunset” time limits that generally apply to sites under the ASF, and the applicant proposes that Site 1 be so exempted.

The application indicates a need for zone services in Ada and Canyon Counties, Idaho. Several firms have indicated an interest in using zone procedures for warehousing/distribution activities for a variety of products. Specific manufacturing approvals are not being sought at this time. Such requests would be made to the Board on a case-by-case basis.

In accordance with the Board's regulations, Christopher Kemp of the FTZ Staff is designated examiner to evaluate and analyze the facts and information presented in the application and case record and to report findings and recommendations to the Board.

Public comment is invited from interested parties. Submissions (original and 3 copies) shall be addressed to the Board's Executive Secretary at the address below. The closing period for their receipt is December 27, 2011. Rebuttal comments in response to material submitted during the foregoing period may be submitted during the subsequent 15-day period to January 9, 2012.

A copy of the application will be available for public inspection at the Office of the Executive Secretary, Foreign-Trade Zones Board, Room 2111, U.S. Department of Commerce, 1401 Constitution Avenue, NW., Washington, DC 20230-0002, and in the “Reading Room” section of the Board's website, which is accessible via http://www.trade.gov/ftz. For further information, contact Christopher Kemp at Christopher.Kemp@trade.gov.

Dated: October 19, 2011.
Andrew McGilvray,
Executive Secretary.

[FR Doc. 2011-27578 Filed 10-24-11; 8:45 am]

BILLING CODE P